DEPARTMENT OF HOMELAND SECURITY

Coast Guard

33 CFR Part 117

[Docket No. USCG-2017-0766]

Drawbridge Operation Regulation; Willamette River, Portland, OR

AGENCY: Coast Guard, DHS.

ACTION: Notice of deviation from drawbridge regulation.

SUMMARY: The Coast Guard has issued a temporary deviation from the operating schedule that governs the upper deck of the Steel Bridge across the Willamette River, mile 12.1, in Portland, OR. The deviation is necessary to support the removal and replacement of roadway pavement. This deviation allows the upper lift span of the bridge to remain in the closed-to-navigation position to ensure the safety of construction crew members.

DATES: This deviation is effective from 4 a.m. to 11:59 p.m. on October 7, 2017.

ADDRESSES: The docket for this deviation, USCG-2017-0766, is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Union Pacific Railroad Company (UPRR), bridge owner, has requested a temporary deviation from the operating schedule for the Steel Bridge across the Willamette River, at mile 12.1, in Portland, OR. The deviation is necessary to accommodate roadway improvements. Oregon Department of Transportation will be removing and replacing pavement on the upper lift roadway. The Steel Bridge is a double-deck lift bridge with a lower lift deck and an upper lift deck which operate independent of each other. To facilitate this paving operation, the upper deck will remain in the closed-to-navigation position. When the lower deck is in the closed-to-navigation position, the bridge provides 26 feet of vertical clearance above Columbia River Datum 0.0; and in open-to-navigation position, the vertical clearance is 71 feet above Columbia River Datum 0.0. The deviation period is from 4 a.m. to 11:59 p.m. on October 7, 2017. The lower deck for the Steel Bridge will continue to operate in accordance with 33 CFR 117.897(c)(3)(ii), and at the end of this deviation period, the upper deck of the Steel Bridge will resume operating in accordance with 33 CFR 117.897(c)(3)(ii).

Waterway usage on this part of the Willamette River includes vessels ranging from commercial tug and barge to small pleasure craft. Vessels able to pass through the bridge with the lower deck in the open-to-navigation position or upper deck in the closed-to-navigation position may do so at any time. The upper lift of the Steel Bridge will not be able to open for emergencies; however, the lower lift will be able to open for emergencies, and there is no immediate alternate route for vessels to pass. The Coast Guard has conducted public outreach regarding this closure of the upper deck on the subject bridge to known mariners that transit on the river. The Coast Guard has not received any objections to this temporary deviation from the operating schedule. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the designated time period. This deviation from the operating regulations is authorized under 33 CFR 117.35.

Dated: August 15, 2017.
Steven Michael Fischer,
Bridge Administrator, Thirteenth Coast Guard District.

[FR Doc. 2017-17523 Filed 8-17-17; 8:45 am]

BILLING CODE 9110-04-P